DEPARTMENT OF ENERGY

Federal Energy Regulatory Commission

[Docket No. RD23-4-000]

Commission Information Collection Activities (FERC-725G); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on proposed revisions of the currently approved information collection, FERC-725G, (Mandatory Reliability Standards for the Bulk-Power System).

DATES: Comments on the collection of information are due June 23, 2023.

ADDRESSES: You may submit copies of your comments (identified by Docket No. RD23-4-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-725G (Mandatory Reliability Standards for the Bulk-Power System: Approval of PRC Reliability Standard PRC-002-4.

OMB Control No.: 1902-0252.

Type of Request: Approval of FERC-725G information collection requirements associated with proposed PRC Reliability Standard PRC-002-4.

Abstract: This Notice pertains to the FERC-725G information collection requirements associated with PRC Reliability Standard PRC-002-4, (Disturbance Monitoring and Reporting Requirements), the associated Violation Risk Factors and Violation Severity Levels, and the proposed implementation plan including the retirement of the currently effective Reliability Standard PRC-002-3, proposed by the North American Electric Reliability (NERC) in a petition dated March 10, 2023. NERC also proposed the retirement of Reliability Standard PRC-002-3. The Commission included the petition in a Combined Notice of Filings published on March 23, 2023, at 88 FR 17564.

On March 4, 2022, the Commission's Office of Electric Reliability approved PRC-002-3 in Docket No. RD22-2-000. The FERC submitted an information collection request to OMB on October 25, 2022, in association with that Order, and that request is currently pending review at OMB under the heading “FERC-725G (DLO in RD22-2-000), Mandatory Reliability Standards for the Bulk-Power System: PRC Rel Stds.”

NERC's proposed revisions: (1) clarify requirements for notifications under the standard, including when generator owners and transmission owners must have data for an applicable transformer or transmission line; (2) clarify and make consistent terminology used in the Standard; (3) incorporate the implementation timeframe for newly-identified facilities; and (4) add a criterion defining substantial changes in fault current levels requiring changing the locations for which certain data is recorded.

The information collection requirements contained in this Notice are subject to review by the Office of Management and Budget (OMB) under section 3507(d) of the Paperwork Reduction Act of 1995.¹ OMB's regulations require approval of certain information collection requirements imposed by agency rules.² Upon approval of a collection of information, OMB will assign an OMB control number and expiration date. Respondents subject to the filing requirements of this rule will not be penalized for failing to respond to these collections of information unless the collections of information display a valid OMB control number. The Commission solicits comments on the Commission's need for this information, whether the information will have practical utility, the accuracy of the burden estimates, ways to enhance the quality, utility, and clarity of the information to be collected or retained, and any suggested methods for minimizing respondents' burden, including the use of automated information techniques.

¹ 44 U.S.C. 3507(d).

² 5 CFR part 1320.

The number of respondents below is based on an estimate of the NERC compliance registry for balancing authority, transmission operator, generator operator, generator owner and reliability coordinator. The Commission based its paperwork burden estimates on the NERC compliance registry as of February 10, 2023. According to the registry, there are 325 transmission owners, 1,117 generator owners and 12 reliability coordinators. The estimates are based on the change in burden from the currently pending standard (i.e., PRC-002-3) to the standard approved in this Docket (i.e., PRC-002-4). The Commission based the burden estimates on staff experience, knowledge, and expertise.

The estimates are based combination on one-time (years 1 and 2) obligations to follow the revised Reliability Standard.

Proposed Reliability Standard PRC-002-4 (Disturbance Monitoring and Reporting Requirements) would advance the reliability of the BES by providing needed clarity regarding the application of the standard's requirements. First, proposed Reliability Standard PRC-002-4 would clarify requirements for notifications under the standard, including when Generator Owners and Transmission Owners must have data for an applicable transformer or transmission line. Second, the proposed Reliability Standard clarifies and promotes consistency in terminology used in the standard. Third, the proposed Reliability Standard brings the implementation timeframe for newly identified facilities into the standard. Last, the proposed Reliability Standard adds a criterion that defines what constitutes a substantial change in fault current levels that would require changing the locations for which sequence of events (SER) and fault recording (FR) data is recorded. The revisions and supporting rationale are discussed in further detail below.

Proposed Reliability Standard PRC-002-4, the subject of this Notice, contains a number of revisions intended to clarify the standard, aid in its administration, and reduce ambiguities and unnecessary burdens. The proposed change to Attachment 1 Step 7 allows the possibility of significant change over time without a required change in data recording location. The Reliability Standard PRC-002-4 would provide necessary clarifications to the standard in the requirements R1, R3 and R5 and promotes consistency in terminology used in the standard. The new requirement R13 brings the implementation timeframe for newly identified facilities into the standard. These changes would clarify the extent of the required notifications and data collection requirements consistent with other provisions in the currently effective and approved versions of the PRC-002 standard.

³ TO=Transmission Owner, GO=Generator Owner and RC=Reliability Coordinator.

⁴ The estimated hourly cost (salary plus benefits) derived using the following formula: Burden Hours per Response * $/hour = Cost per Response. based on the Bureau of Labor Statistics (BLS), as of February 10, 2023, of an Electrical Engineer (17-2071)—$77.02,—and for Information and Record Clerks (43-4199) $42.35, The average hourly burden cost for this collection is [($77.02 + $42.35)/2 = $61.17)] rounded to $61.17 an hour.

Proposed Changes Due to Order in Docket No. RD23-4-000
Reliability standard & requirement | Type ³ and number of entity | Number of annual responses per entity | Total number of responses | Average number of burden hours per response ⁴ | Total burden hours
| (1) | (2) | (1) * (2) = (3) | (4) | (3) * (4) = (5)
FERC-725G
PRC-002-4:
TO | 325 | 1 | 325 | 16 hrs., $978.72. | 5,200 hrs., $318,084.
GO | 1,117 | 1 | 1,117 | 16 hrs., $978.72. | 17,872 hrs., $1,093,230.24.
RC | 12 | 1 | 12 | 8 hrs., $489.36. | 96 hrs., $5,872.32.
Total for PRC-002, One Time Estimate—Years 1 and 2 |  |  | 1,454 | 40 hrs., $2,446.8 | 23,168 hrs., $1,417,186.56.

The one-time burden of 23,168 hours that only applies for Year 1 and 2 will be averaged over three years (23,168 hours ÷ 3 = 7,722.667 (7,722.67 − rounded) hours/year over three years). The number of responses is also averaged over three years (1,454 responses ÷ 3 = 484.667 (484.67 − rounded) responses/year).

The responses and burden hours for Years 1-3 will total respectively as follows for Year 1 one-time burden:

Year 1: 484.67 responses; 7,722.67 hours

Year 2: 484.67 responses; 7,722.67 hours

Year 3: 484.67 responses; 7,722.67 hours

Comments concerning the information collection and retirement approved by the Commission in this Docket and the associated burden estimates, should be sent to the Commission in this docket and may also be sent to the Office of Management and Budget, Office of Information and Regulatory Affairs [Attention: Desk Officer for the Federal Energy Regulatory Commission]. For security reasons, comments should be sent by email to OMB at the following email address: oira_submission@omb.eop.gov.

Environmental Analysis

The Commission is required to prepare an Environmental Assessment or an Environmental Impact Statement for any action that may have a significant adverse effect on the human environment.⁵ The Commission has categorically excluded certain actions from this requirement as not having a significant effect on the human environment. Included in the exclusion are rules that are clarifying, corrective, or procedural or that do not substantially change the effect of the regulations being amended.⁶ The actions approved here fall within this categorical exclusion in the Commission's regulations.

⁵ Regulations Implementing the National Environmental Policy Act of 1969, Order No. 486, 52 FR 47897 (Dec. 17, 1987), FERC Stats. & Regs., Regulations Preambles 1986-1990 ¶ 30,783 (1987).

⁶ 18 CFR 380.4(a)(2)(ii).

Document Availability

In addition to publishing the full text of this document in the Federal Register, the Commission provides all interested persons an opportunity to view and/or print the contents of this document via the internet through the Commission's Home Page (http://www.ferc.gov) and in the Commission's Public Reference Room during normal business hours (8:30 a.m. to 5:00 p.m. Eastern time) at 888 First Street NE, Room 2A, Washington, DC 20426.

From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from the Commission's Online Support at (202) 502-6652 (toll free at 1-866-208-3676) or email at ferconlinesupport@ferc.gov, or the Public Reference Room at (202) 502-8371, TTY (202) 502-8659. Email the Public Reference Room at public.referenceroom@ferc.gov.

By direction of the Commission.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 17, 2023.
Kimberly D. Bose,
Secretary.

[FR Doc. 2023-08512 Filed 4-21-23; 8:45 am]

BILLING CODE 6717-01-P